ENVIRONMENTAL PROTECTION AGENCY

[EPA-R05-OW-2009-0932; FRL-9801-8]

Proposed Agency Information Collection Request: Comment Request; Great Lakes Accountability System (Renewal)

AGENCY: Environmental Protection Agency (EPA).

ACTION: Notice.

SUMMARY: The Environmental Protection Agency is planning to submit an information collection request (ICR), “Great Lakes Accountability System” (EPA ICR No. 2379.02, OMB Control No. 2005-001) to the Office of Management and Budget (OMB) for review and approval in accordance with the Paperwork Reduction Act (PRA) (44 U.S.C. 3501 et seq.). Before doing so, EPA is soliciting public comments on specific aspects of the proposed information collection as described below. This is a proposed extension of the ICR, which is currently approved through July 31, 2013. An Agency may not conduct or sponsor and a person is not required to respond to a collection of information unless it displays a currently valid OMB control number.

DATES: Comments must be submitted on or before June 11, 2013.

ADDRESSES: Submit your comments, referencing Docket ID No. EPA-R05-OW-2009-0932 online using www.regulations.gov (our preferred method) or by mail to: Great Lakes Accountability System, Attn: Rita Cestaric, EPA, Great Lakes National Program Office, 77 W. Jackson, Chicago, IL 60604.

EPA's policy is that all comments received will be included in the public docket without change including any personal information provided, unless the comment includes profanity, threats, information claimed to be Confidential Business Information (CBI) or other information whose disclosure is restricted by statute.

FOR FURTHER INFORMATION CONTACT: Rita Cestaric, Great Lakes National Program Office, Environmental Protection Agency, 77 W. Jackson, Chicago, IL 60604; telephone number: (312) 886-6815; fax number: (312) 697-2014; email address: cestaric.rita@epa.gov.

SUPPLEMENTARY INFORMATION: Supporting documents which explain in detail the information that the EPA will be collecting are available in the public docket for this ICR. The docket can be viewed online at www.regulations.gov or in person at the EPA Great Lakes National Program Office, 77 West Jackson Boulevard, Chicago, Illinois 60604; telephone number (312) 886-6815. Materials are available for viewing from 8:30 a.m. to 4:30 p.m., Monday through Friday, excluding legal holidays.

Pursuant to Section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: In 2010, EPA, in concert with its federal partners, began implementation of the Great Lakes Restoration Initiative (GLRI) that was included in the Department of the Interior, Environment, and Related Agencies Appropriations Act, 2010 (Pub. L. 111-88) and subsequent appropriations. The GLRI invests funds in programs and projects strategically chosen to target the most significant environmental problems in the Great Lakes ecosystem.

The legislation called for increased accountability for the GLRI and directed EPA to implement a process to track, measure, and report on progress. As part of this process, federal and non-federal entities receiving GLRI funds are required to submit detailed information on GLRI projects as part of their funding agreement. Recipients are required to provide information on the nature of the activity, responsible organization, organizational point of contact, resource levels, geographic location, major milestones and progress toward GLRI goals. The information is necessary to provide an accurate depiction of activities, progress, and results. Information is updated on a quarterly basis.

A web-based Great Lakes Accountability System (GLAS) is the primary mechanism for collecting information on GLRI activities. GLAS is available for registered users to enter data at https://login.glnpo.net. The Web site contains a data entry interface that funding recipients use to enter and submit project information directly into GLAS. The data entry interface consists of a series of screens containing pull-down menus and text boxes, where users can enter project specific information. The GLAS provides necessary information for reports to the President, Congress and the public.

Form Numbers: None.

Respondents/affected entities: Great Lakes Restoration Initiative Funding Recipients.

Respondent's obligation to respond: Required for recipients of GLRI funds.

Estimated number of respondents: 594 (total).

Frequency of response: Quarterly.

Total estimated burden: 20,663 hours (33 hours for state, local, and tribal governments to complete 4 quarterly responses per year, and 41.1 hours for non-government organizations to complete 4 quarterly responses per year). “Burden” is defined at 5 CFR 1320.3(b).

Total estimated cost: $1,212,164.00. This includes an estimated annual burden cost of $1,212,164.00 for labor and no capital investment or maintenance and operational costs.

Changes in Estimates: The burden and costs stated above are from the current approved ICR, 2379.01. EPA believes these estimates will remain substantially the same, but may adjust these estimates based on public comments received or other information gained by the Agency prior to submitting the ICR renewal package to OMB.

Dated: April 1, 2013.
Susan Hedman,
Great Lakes National Program Manager.

[FR Doc. 2013-08696 Filed 4-11-13; 8:45 am]

BILLING CODE 6560-50-P